DEPARTMENT OF THE INTERIOR

Bureau of Land Management

[LLCAD0000L14300000.DS0000]

Notice of Intent To Prepare an Environmental Impact Statement for the Proposed Desert Renewable Energy Conservation Plan, Kern, Los Angeles, San Bernardino, Inyo, Riverside, Imperial, San Diego, and Tulare Counties, CA and Possible Land Use Plan Amendment

AGENCY: Bureau of Land Management, Interior.

ACTION: Notice of Intent.

SUMMARY: In compliance with the National Environmental Policy Act (NEPA) of 1969, as amended, and the Federal Land Policy and Management Act of 1976, as amended, the Bureau of Land Management (BLM) California Desert District, Moreno Valley, California, intends to prepare an Environmental Impact Statement (EIS), which may include an amendment to the California Desert Conservation Area (CDCA) Plan of 1980, as amended, and by this notice is announcing the beginning of the scoping process to solicit public comments and identify issues.

DATES: This notice initiates the public scoping process for the EIS and possible plan amendment. Comments on issues may be submitted in writing until December 21, 2009. The dates and locations of any scoping meetings will be announced at least 15 days in advance through local media, newspapers, and the BLM Web site at: http://www.blm.gov/ca/st/en/fo/cdd.html. In order to be considered in the Draft EIS, all comments must be received before the close of the scoping period or 15 days after the last public meeting, whichever is later. We will provide additional opportunities for public participation upon publication of the Draft EIS.

ADDRESSES: You may submit comments on issues and planning criteria related to the Desert Renewable Energy Conservation Plan (DRECP) by any of the following methods:

• Web site: http://www.blm.gov/ca/st/en/fo/cdd.html.

• E-mail: DRECP@blm.gov.

• Fax: (916) 978-4657.

• Mail or hand delivery: ATTN: DRECP, BLM California State Office, 2800 Cottage Way, Suite W-1623, Sacramento, California 95825.

Documents pertinent to this proposal may be examined at the BLM California State office or the BLM California Desert District office, 22835 Calle San Juan de Los Lagos, Moreno Valley, California 92553-9046.

FOR FURTHER INFORMATION CONTACT: For further information or to have your name added to our mailing list, contact Amy Fesnock, Project Manager, telephone (916) 978-4646; address BLM California State Office, 2800 Cottage Way, Suite W-1623, Sacramento, California 95825; e-mail DRECP@blm.gov.

SUPPLEMENTARY INFORMATION: The BLM, along with the California Department of Fish and Game, the California Energy Commission, and the U.S. Fish and Wildlife Service, propose to develop the DRECP to advance State and Federal conservation goals in the Mojave and Colorado desert regions in California, while also facilitating the timely permitting of renewable energy projects under applicable State and Federal laws. Specifically, the planning goals for the DRECP include, but are not limited to, the following:

• Provide for the long-term conservation and management of identified species in the planning area;

• Preserve, restore, and enhance natural communities and ecosystems that support identified species in the planning area;

• Build on the Competitive Renewable Energy Zones identified by the State's Renewable Energy Transmission Initiative that depict areas where renewable energy generation project permitting may be expedited;

• Identify the most appropriate locations in the planning area for the development of utility-scale renewable energy projects, taking into account potential impacts to threatened and endangered species, sensitive natural communities, and cultural resources;

• Coordinate and standardize mitigation and compensation requirements for renewable energy activities in the planning area; and

• Develop an efficient process for authorizing renewable energy projects in the planning area that results in greater conservation values than the process provided by project-by-project or species-by-species reviews.

The purpose of the public scoping process is to determine relevant issues that will influence the scope of the environmental analysis, including alternatives, and guide the process for developing the EIS. The BLM has identified the following preliminary issues: Special status species, mitigation measures for special status species, vegetation communities, cultural resources, special area designations, and areas of high potential for renewable energy development.

Authorization of this proposal may require amendment of the CDCA Plan. By this notice, the BLM is complying with requirements in 43 CFR 1610.2(c) to notify the public of potential amendments to land use plans, predicated on the findings of the EIS. If a land use plan amendment is necessary, the BLM will integrate the land use planning process with the NEPA process for this proposal.

The BLM will use the NEPA commenting process to satisfy the public involvement process for Section 106 of the National Historic Preservation Act (16 U.S.C. 470f), as provided for in 36 CFR 800.2(d)(3). Native American Tribal consultations will be conducted in accordance with policy and Tribal concerns will be given due consideration, including impacts on Indian trust assets. Federal, State, Tribes, and local agencies, along with other stakeholders that may be interested or affected by the BLM's decision on this project, are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Tom Pogacnik,
Deputy State Director for Natural Resources.

[FR Doc. E9-27862 Filed 11-19-09; 8:45 am]

BILLING CODE 4310-40-P